DEPARTMENT OF HOMELAND SECURITY

U.S. Customs and Border Protection

[OMB Control Number 1651-0015]

Agency Information Collection Activities; Extension; Application for Extension of Bond for Temporary Importation

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than November 12, 2025) to be assured of consideration.

ADDRESSES: Written comments and/or suggestions regarding the item(s) contained in this notice must include the OMB Control Number 1651-0015 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Application for Extension of Bond for Temporary Importation.

OMB Number: 1651-0015.

Form Number: 3173.

Current Actions: Extension.

Type of Review: Extension (without change).

Affected Public: Businesses.

Abstract: Imported merchandise which is to remain in the customs territory for a period of one year or less without the payment of duties with the intent to destroy or export is entered as a temporary importation of goods under bond (TIB), as authorized under the Harmonized Tariff Schedule of the United States (19 U.S.C. 1202). Consistent with 19 CFR 10.37, when this time period is not sufficient, importers and brokers may request an extension by submitting a CBP Form 3173, “Application for Extension of Bond for Temporary Importation”, either electronically or manually, to the Center Director. The period of time may be extended for not more than two further periods of 1 year each, or such shorter periods as may be appropriate. An Extension may be granted by CBP, upon written or electronic submission of a CBP Form 3173, provided that the articles have not been exported or destroyed before receipt of the application, and liquidated damages have not been assessed under the bond before receipt of the application. CBP Form 3173 is provided for in 19 CFR 10.37 and is accessible at: https://www.cbp.gov/newsroom/publications/forms?title=3173.

Under the National Customs Automation Program (NCAP) concerning document imaging, certain Automated Commercial Environment (ACE) participants are able to submit electronic images of a specific set of CBP and Participating Government Agency (PGA) forms and supporting information to CBP through the Document Image System (DIS). Specifically, importers and brokers, are allowed to submit official CBP documents and specified PGA forms via the Electronic Data Interchange (EDI).

Although the first phase of the DIS test was limited to certain CBP and PGA forms, subsequent deployment phases of DIS will incorporate additional forms and these other forms may be referenced in the DIS implementation guidelines.

This information collection is necessary to ensure compliance with 19 CFR 10.37 and the DIS guidance.

Type of Information Collection: Form 3173.

Estimated Number of Respondents: 1,822.

Estimated Number of Annual Responses per Respondent: 14.

Estimated Number of Total Annual Responses: 25,508.

Estimated Time per Response: 13 minutes.

Estimated Total Annual Burden Hours: 5,535.

Dated: September 10, 2025.
Seth D. Renkema
Branch Chief, Economic Impact Analysis Branch, U.S. Customs and Border Protection.

[FR Doc. 2025-17691 Filed 9-11-25; 8:45 am]

BILLING CODE 9111-14-P